DEPARTMENT OF ENERGY

Federal Energy Regulatory Commission

[Docket No. EL20-14-000]

Notice of Petition for Declaratory Order; Xcel Energy Services Inc.

Take notice that on December 20, 2019, pursuant to Rule 207(a)(2) of the Federal Energy Regulatory Commission's (Commission) Rules of Practice and Procedure, 18 CFR 385.207 (2019), Xcel Energy Services Inc., on behalf of Public Service Company of Colorado (PSCo or Petitioner), filed a petition for a declaratory order requesting that the Commission declare: (1) Holy Cross Electric Association, Inc.'s (Holy Cross) demand for firm curtailment service for the Economy Energy resources is inconsistent with the Power Supply Agreement (PSA); (2) Holy Cross' demand for firm curtailment service is inconsistent with the Operating Agreement; (3) Holy Cross' demand for firm curtailment service is inconsistent with the Transmission Integration and Equalization (TIE) Agreement; and (4) PSCo is not obligated to process Holy Cross' requests for firm service under the TIE Agreement, as more fully explained in the petition.

Any person desiring to intervene or to protest this filing must file in accordance with Rules 211 and 214 of the Commission's Rules of Practice and Procedure (18 CFR 385.211, 385.214). Protests will be considered by the Commission in determining the appropriate action to be taken but will not serve to make protestants parties to the proceeding. Any person wishing to become a party must file a notice of intervention or motion to intervene, as appropriate. Such notices, motions, or protests must be filed on or before the comment date. Anyone filing a motion to intervene, or protest must serve a copy of that document on the Petitioners.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern time on January 21, 2020.

Dated: December 23, 2019.
Nathaniel J. Davis, Sr.,
Deputy Secretary.

[FR Doc. 2019-28259 Filed 12-30-19; 8:45 am]

BILLING CODE 6717-01-P